DEPARTMENT OF JUSTICE

Notice of Lodging of Proposed Consent Decree Under the Comprehensive Environmental Response, Compensation, and Liability Act

On September 22, 2017, the Department of Justice lodged a proposed Consent Decree with the United States District Court for the District of Minnesota in the lawsuit entitled United States v. City of Cass Lake, Civil Action No. 17-4367.

In this action, the United States brought claims against the City of Cass Lake, Minnesota for response costs and injunctive relief associated with the release and threatened release of hazardous substances from facilities at and near the St. Regis Paper Company Superfund Site (“Site”) in Cass Lake, Minnesota, pursuant to the Comprehensive Environmental Response, Compensation, and Liability Act, 42 U.S.C. 9601 et seq. (“CERCLA”). The proposed Consent Decree requires Defendant to make a payment of $30,000 to reimburse EPA past costs at the Site, with the settlement amount based on Defendant's limited ability to pay. The proposed Consent Decree also requires the City to cooperate with EPA and any parties performing cleanup work at the Site and to assist with implementing any necessary land use restrictions.

The publication of this notice opens a period for public comment on the Consent Decree. Comments should be addressed to the Assistant Attorney General, Environment and Natural Resources Division, and should refer to United States v. City of Cass Lake, D.J. Ref. No. 90-11-3-06790/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $17.75 (25 cents per page reproduction cost) payable to the United States Treasury. For a paper copy without the exhibits and signature pages, the cost is $8.00.

Randall M. Stone,
Acting Assistant Section Chief, Environmental Enforcement Section, Environment and Natural Resources Division.

[FR Doc. 2017-21040 Filed 9-29-17; 8:45 am]

BILLING CODE 4410-15-P